DEPARTMENT OF VETERANS AFFAIRS

38 CFR Part 17

RIN 2900-AN98

Payment for Home Health Services and Hospice Care to Non-VA Providers; Delay of Effective Date

AGENCY: Department of Veterans Affairs.

ACTION: Final rule; delay of effective date.

SUMMARY: The Department of Veterans Affairs (VA) published in the Federal Register on May 6, 2013 (78 FR 26250) a final rule to change the billing methodology for non-VA providers of home health services and hospice care. The preamble of that final rule stated the effective date was November 15, 2013. This document delays that effective date to April 1, 2014.

DATES: Effective Date: The effective date for the final rule published May 6, 2013, at 78 FR 26250, is delayed from November 15, 2013, until April 1, 2014.

FOR FURTHER INFORMATION CONTACT: Harold Bailey, Director of Administration, Department of Veterans Affairs, Veterans Health Administration, 3773 Cherry Creek Drive North, East Tower, Ste. 485, Denver, CO 80209, (303) 331-7829. (This is not a toll-free number.)

SUPPLEMENTARY INFORMATION: This rulemaking makes the VA regulation governing payments for certain non-VA health care, 38 CFR 17.56, applicable to non-VA home health services and hospice care. Section 17.56 provides, among other things, that Centers for Medicare and Medicaid (CMS) fee schedule or prospective payment system amounts will be paid to certain non-VA providers, unless VA negotiates other payment amounts with such providers. See 38 CFR 17.56(a)(2)(i). This change in the billing methodology for non-VA home health and hospice care was put forth in a proposed rule. We received one comment to this change and responded to that comment in a final rule published in the Federal Register on May 6, 2013 (78 FR 26250). The original effective date of the final rule was stated as November 15, 2013; however, we now delay the effective date of the final rule at 78 FR 26250 to the new effective date of April 1, 2014. The delay of the effective date is necessary to accommodate unforeseen difficulties in contracting and information technology procedures required to apply the billing methodology under § 17.56 to non-VA home health services and hospice care. These difficulties relate to separate administration of hospice care and home health services by the Veterans Health Administration's Office of Geriatrics and Extended Care, which uses separate methods for forming agreements with non-VA providers for the provision of these services, and difficulties regarding information technology systems necessary to use the CMS rate made applicable under § 17.36.

Dated: November 8, 2013.
Robert C. McFetridge,
Director, Regulation Policy and Management, Office of the General Counsel, Department of Veterans Affairs.

[FR Doc. 2013-27218 Filed 11-13-13; 8:45 am]

BILLING CODE 8320-01-P